DEPARTMENT OF DEFENSE

Office of Secretary

[DOD-2007-OS-0072]

Privacy Act of 1974; Systems of Records

AGENCY: Defense Finance and Accounting Service, DOD.

ACTION: Notice to add a system of records.

SUMMARY: The Defense Finance and Accounting Service (DFAS) is proposing to add a system of records notice to its inventory of record systems subject to the Privacy Act of 1974, (5 U.S.C. 552a), as amended.

DATES: This action will be effective without further notice on August 8, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on June 29, 2007, to the Senate Committee on Homeland Security and Governmental Affairs, the House Committee on Oversight and Government Reform, and the Office of Management and Budget (OMB) pursuant to paragraph 4c of Appendix I to OMB Circular No. A-130, `Federal Agency Responsibilities for Maintaining Records About Individuals,' dated December 12, 2000, 65 FR 239.

Dated: July 2, 2007.
C.R. Choate,
Alternate OSD Federal Register Liaison Officer, Department of Defense.

T7401

System name:

Standard Accounting, Budgeting, and Reporting System (SABRS).

System location:

Defense Information Systems Agency (DISA) Defense Enterprise Computing Center (DECC)—St. Louis, 4300 Goodfellow Blvd., St. Louis, MO 63120-0012.

Categories of individuals covered by the system:

U.S. Marine Corps Active and Reserve military members and U.S. Marine Corps appropriated funds employees.

Categories of records in the system:

Individual's name, Social Security Number (SSN), U.S. Marine Corps general fund appropriations, authorizations, commitments, obligations records, expenses disbursements and collections.

Authority for maintenance of the system:

5 U.S.C. 301, Departmental Regulations; Department of Defense Financial Management Regulation (DoDFMR) 7000.14-R, Vol. 4; 31 U.S.C. Sections 3511, 3512, and 3513; and E.O. 9397 (SSN).

Purpose(s):

To support and standardize accounting budget execution and reporting requirements for all general funds authorized within the U.S. Marine Corps.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘DoD Blanket Routine Uses’ published at the beginning of the DFAS compilation of systems of records notices apply to this system.

Policies and practices for storing, retrieving, accessing, retaining, and disposing of records in the system:

Storage:

Electronic storage media.

Retrievability:

Name and Social Security Number (SSN).

Safeguards:

Records are stored in an office building protected by guards, controlled screening, use of visitor registers, electronic access, and/or locks. Access to records is limited to individuals who are properly screened and cleared on a need-to-know basis in the performance of their duties. User's ID numbers, passwords, and user roles are used to control access to the system data, and procedures are in place to deter and detect browsing and unauthorized access.

Retention and disposal:

Records may be temporary in nature and deleted when actions are completed, superseded, obsolete, or no longer needed. Other records may be cut off at the end of the fiscal year, and destroyed up to 6 years and 3 months after cutoff. Records are destroyed by degaussing or destroying the electronic media.

System manager(s) and address:

Systems Manager, Defense Finance and Accounting Service-Kansas City, Information Technology Directorate, 1500 East 95th Street, Kansas City, MO 64197-0001.

Notification procedure:

Individuals seeking to determine whether information about themselves is contained in this record system should address written inquiries to the Defense Finance and Accounting Service, Freedom of Information/Privacy Act Program Manager, Corporate Communications and Legislative Liaison, 6760 E. Irvington Place, Denver, CO 80279-8000.

Requests should contain full name, Social Security Number (SSN), current address, and telephone number.

Record access procedures:

Individuals seeking access to information about themselves contained in this system should address written inquiries to Defense Finance and Accounting Service, Freedom of Information/Privacy Act Program Manager, Corporate Communications and Legislative Liaison, 6760 E. Irvington Place, Denver, CO 80279-8000.

Requests should contain full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individuals concerned and the U.S. Marine Corps.

Exemptions claimed for the system:

None.

[FR Doc. E7-13268 Filed 7-6-07; 8:45 am]

BILLING CODE 5001-06-P